NUCLEAR REGULATORY COMMISSION

[NRC-2011-0233]

Draft Nuclear Regulatory Commission Fiscal Year 2012-2016 Strategic Plan

AGENCY: Nuclear Regulatory Commission.

ACTION: Draft NUREG; request for comment.

SUMMARY: The U.S. Nuclear Regulatory Commission (NRC) is announcing the availability of and requesting comment on draft NUREG-1614, Volume 5. “U.S. Nuclear Regulatory Commission, FY 2012-2016 Strategic Plan,” dated September 2011. The NRC's draft FY 2012-2016 strategic plan describes the agency's mission and strategic objective, which remain unchanged. The NRC's priority continues to be ensuring the adequate protection of public health and safety, and promoting the common defense and security.

DATES: Submit comments on the draft strategic plan by November 2, 2011. Comments received after the above date will be considered if it is practical to do so, but the NRC is able to assure consideration only for comments received on or before this date.

ADDRESSES: Please include Docket ID NRC-2011-0233 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2011-0233. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The draft strategic plan is available electronically under ADAMS Accession No. ML11270A135.

• Federal Rulemaking Web Site: Public comments and supporting materials related to this notice can be found at http://www.regulations.gov by searching on Docket ID NRC-2011-0233. Some publications in the NUREG series that are posted at NRC's Web site address http://www.nrc.gov/reading-rm/doc-collections are updated regularly and may differ from the last printed version.

FOR FURTHER INFORMATION CONTACT: James E. Coyle, Planning and Performance Management Branch, Division of Planning and Budget, Office of the Chief Financial Officer, U.S. Nuclear Regulatory Commission, Washington, DC 20555-0001; telephone: 301-415-6087, e-mail: James.Coyle@nrc.gov.

Background

The Government Performance and Results Act Modernization Act of 2010 (GRPAMA) requires that an agency's strategic plan be updated for submission to the Congress and the President every four years. The NRC is developing a new strategic plan for FY 2012-2016 to replace the agency's existing strategic plan.

The NRC's draft FY 2012-2016 strategic plan describes the agency's mission and strategic objective, which remain unchanged. The NRC's priority continues to be ensuring the adequate protection of public health and safety, and promoting the common defense and security.

The draft strategic plan reflects the agency's Safety and Security goals, and their associated strategic outcomes. The goals continue to accurately describe the agency's core functions and therefore remain essentially unchanged. This focus on Safety and Security ensures that the NRC remains a strong, independent, stable, and effective regulator.

The draft strategic plan addresses the challenges the NRC will face due to changes in the regulatory environment. This includes the review of applications to construct and operate new nuclear power plants including small modular reactors, while continuing to ensure the safe and secure operation of the existing licensed facilities, as well as addressing any national policy decisions related to the management of radioactive waste.

The draft Strategic Plan also describes the agency's Organizational Excellence Objectives of Openness, Regulatory Effectiveness, and Operational Excellence, which characterize the manner in which the agency intends to achieve its mission. The NRC encourages all interested parties to comment on the draft strategic plan.

The draft strategic plan establishes the agency's long-term strategic direction and outcomes. It provides a foundation to guide the NRC's work and to allocate the NRC's resources.

Stakeholder feedback will be valuable in helping the Commission develop a final plan that has the benefit of the many views in the regulated civilian nuclear industry.

The final version of NUREG-1614, Volume 5, is expected to be released in the spring of 2012.

Dated at Rockville, Maryland, this 28 day of September 2011.
For the Nuclear Regulatory Commission.
Jennifer Golder,
Director, Division of Planning and Budget, Office of the Chief Financial Officer.

[FR Doc. 2011-25491 Filed 10-3-11; 8:45 am]

BILLING CODE 7590-01-P